DEPARTMENT OF AGRICULTURE

Animal and Plant Health Inspection Service

[Docket No. APHIS-2018-0101]

Importation of Plants in Approved Growing Media Into the United States; Availability of a Final Environmental Assessment and Finding of No Significant Impact

AGENCY: Animal and Plant Health Inspection Service, USDA.

ACTION: Notice.

SUMMARY: We are advising the public that a final environmental assessment and finding of no significant impact have been prepared by the Animal and Plant Health Inspection Service for the importation of plants in approved growing media. The environmental assessment documents our review and analysis of the environmental impacts associated with, and alternatives to, the importation of plants in approved growing media. Based on its finding of no significant impact, we have determined that an environmental impact statement need not be prepared.

FOR FURTHER INFORMATION CONTACT: Ms. Lydia E. Colón, Senior Regulatory Policy Specialist, Plant Health Programs, Plant Protection and Quarantine, Animal and Plant Health Inspection Service, 4700 River Road Unit 133, Riverdale, MD 20737-1237; Lydia.E.Colon@usda.gov; (301) 851-2302.

SUPPLEMENTARY INFORMATION:

Background

The requirements for importing plants in growing media (PIGM) consist of overlapping phytosanitary risk mitigation measures that together comprise a “systems approach.” The systems approach is designed to protect imported PIGM against pests and diseases during all stages of international trade from the greenhouse to final product delivery. The goal of the systems approach is to minimize the likelihood that any quarantine pest species enter the United States on the commodity proposed for import.

The pest mitigation measures the Animal and Plant Health Inspection Service (APHIS) proposes for most PIGM import requests are markedly similar from one request to the next, and for this reason we determined that a single programmatic environmental assessment (EA) would reduce the need for repetitive documentation of comparable risks for the majority of PIGM import requests we receive.

On April 10, 2019, we published in the Federal Register (84 FR 14340, Docket No. APHIS-2018-0101) for public comment a notice of availability ¹ of a draft programmatic EA for the importation of plants in approved growing media, which considers the potential environmental effects of a standardized set of pest risk mitigations for routine market requests to import plants in approved growing media. Comments on the notice were required to be received on or before May 10, 2019, but we reopened the comment period for an additional 45 days to June 24, 2019, to ensure that all interested persons had an opportunity to comment.

¹ The notice, programmatic EA, public comments, and FONSI can be viewed at www.regulations.gov. Enter APHIS-2018-0101 in the Search field.

During the public comment period APHIS received six comments. They were from producer organizations and private citizens. After reviewing the comments, we revised the EA to address issues raised by commenters, but also determined that none of the comments received necessitated changes to either the approach or the conclusions of the draft EA. The final programmatic EA addresses the issues raised in the public comments.

Accordingly, we are advising the public that we have adopted the draft EA as a final programmatic EA entitled “Importation of Plants in Approved Growing Media (PIGM) into the United States” (January 2020) and have prepared a finding of no significant impact (FONSI) regarding the conclusions of the EA.

The final EA and FONSI may be viewed on the Regulations.gov website ² or in our reading room, which is located in room 1620 of the USDA South Building, 14th Street and Independence Avenue SW, Washington, DC. Normal reading room hours are 8 a.m. to 4:30 p.m., Monday through Friday, except holidays. To be sure someone is there to help you, please call (202) 799-7039 before coming. You may request paper copies of the final EA and FONSI by calling or writing to the person listed under FOR FURTHER INFORMATION CONTACT. Please refer to the title of the final EA when requesting copies.

² See footnote 1.

The final EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 16th day of June 2021.
Mark Davidson,
Acting Administrator, Animal and Plant Health Inspection Service.

[FR Doc. 2021-13497 Filed 6-24-21; 8:45 am]

BILLING CODE 3410-34-P